NATIONAL CREDIT UNION ADMINISTRATION

Agency Information Collection Activities: Submission to OMB for Reinstatement, With Change, of a Previously Approved Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is related to the Federal Credit Union (FCU) Bylaws and is being published to obtain comments from the public. The bylaws address a broad range of matters concerning: an FCU's organization and governance; the FCU's relationship to members; and the procedures and rules an FCU follows.

DATES: Comments will be accepted until September 27, 2013.

ADDRESSES: Interested parties are invited to submit written comments to the NCUA and OMB Contacts listed below:

NCUA Contact: Tracy Crews, National Credit Union Administration, 1775 Duke Street, Alexandria, Virginia 22314-3428, Fax No. 703-837-2861, Email: OCIOPRA@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews, NCUA, 1775 Duke Street, Alexandria, VA 22314-3428, or at (703) 518-6444. Requests for additional information about the FCU Bylaws should be directed to Susan Ryan, NCUA Consumer Access Analyst, at the same address, in the Office of Consumer Protection, Division of Consumer Access, (703) 518- 1150, DCAMail@NCUA.gov.

SUPPLEMENTARY INFORMATION:

I. Abstract and request for comments

The FCU Act requires the NCUA Board to prepare bylaws for FCUs. 12 U.S.C. 1758. After consideration of public comment, the NCUA Board adopted the FCU Bylaws and incorporated them into NCUA's regulations at 12 CFR 701.2, and Appendix A to part 701, in 2007. Unless a federal credit union adopted its bylaws before November 30, 2007, it must adopt the 2007 bylaws. FCUs use the information they collect and maintain pursuant to their bylaws in their operations and to provide services to members. NCUA uses the information both to regulate the safety and soundness of FCUs and protect the National Credit Union Share Insurance Fund.

NCUA is issuing this notice and request for comment on the reinstatement and amendment of the previously approved information collection PRA number related to the FCU Bylaws, 3133-0052. Staff has incorporated into this collection other previously expired or combined information collections also related to the bylaws, including 3133-0057 and 3133-0081. The amount of burden hours is decreasing as a result of technology and the continuing trend of annual decreases in the number of FCUs.

NCUA staff reviewed each of the articles of the FCU Bylaws to identify all current information collection requirements. As a preliminary matter, those persons choosing to organize a new FCU must comply with certain information collection requirements upon starting the FCU and first adopting these bylaws. Over the past three years, organizers have established an average of approximately two new FCUs each year. We estimate each new FCU must spend approximately 20 hours to initially comply with the bylaws' information collection requirements (ICR), for a total annual collection of 40 hours.

For current FCUs, it has been a usual and customary business practice, since their initial charter dates, to collect and maintain any information as specified the bylaws. NCUA staff also reviewed each Article of the FCU Bylaws to estimate current annual burden hours for FCUs attached to each ICR, and we have listed these estimates below in the Data section.

NCUA does not believe that FCUs will incur any additional labor costs as a result of the bylaw requirements since these are in accordance with the FCUs' usual and customary business practices. The FCU bylaws address integral parts of an FCU's operations as member-owned, not-for-profit financial cooperatives. Since an FCU could not operate as federally chartered and insured credit union without complying with these collections, there is no additional labor cost burden.

The NCUA requests that you send your comments on this collection to the location listed in the addresses section. Your comments should address: (a) The necessity of the information collection for the proper performance of NCUA, including whether the information will have practical utility; (b) the accuracy of our estimate of the burden (hours and cost) of the collection of information, including the validity of any methodology and assumptions used; (c) ways we could enhance the quality, utility, and clarity of the information to be collected; and (d) ways we could minimize the burden of the collection of the information on the respondents such as through the use of automated collection techniques or other forms of information technology. It is NCUA's policy to make all comments available to the public for review.

II. Data

Title: Federal Credit Union (FCU) Bylaws, 12 CFR 701.2, and App. A to Part 701

OMB Number: 3133-0052.

Form Number: N/A

Type of Review: reinstatement, with change.

Description: FCUs use the information they collect and maintain pursuant to their bylaws in their operations and to provide services to members. NCUA uses the information both to regulate the safety and soundness of FCUs and protect the National Credit Union Share Insurance Fund.

Respondents: All FCUs and, for Art. 2, estimated number of new FCU members (per year).

Estimated No. of Respondents/Recordkeepers: 4,220 FCUs and 1,461,335 new members = 1,465,555.

Frequency of Response: Recordkeeping, Reporting and On occasion .

Estimated Total Annual Hours Requested: 458,477.75.

Estimated Total Annual Cost: N/A.

Specifically, NCUA Staff identified the following articles as containing ICRs with the following number of respondents and the estimated annual burden in hours, as follows:

ICRs related to FCU Bylaws, specifically for newly chartered FCUs:

Respondents/record-keepers: 2 per year.

Estimated annual burden: 20 hours.

Total annual hours: 40 hours.

ICRs related to Bylaws for All FCUs:

Article II. Qualifications for Membership

ICR: Membership applications.

Respondents: 1,461,335 new members of FCUs.

Estimated annual burden: 15 minutes per application.

Total annual hours: 365,334.

ICR: Membership denial.

Respondents/record-keepers: 1055 [¼ of all FCUs deny one member per year].

Estimated annual burden: 15 minutes per denial.

Total annual hours: 263.75.

Article IV. Meetings of Members

ICR: Notices related to member meetings.

Respondents/record-keepers: All FCUs (4,220).

Estimated annual burden: 1 hour.

Total annual hours: 4,220.

Article V. Elections

ICR: Collecting and maintaining information for FCU elections.

Respondents/record-keepers: All FCUs (4,220).

Estimated annual burden: 8 hours.

Total annual hours: 33,760.

* Please note Article V, section 6, contains an ICR on the report of officials. This ICR is addressed in another NCUA PRA submission, 3133-0004.

Article VI. Board of Directors

ICR: Board meeting notices.

Respondents/record-keepers: All FCUs (4,220).

Estimated annual burden: 1 hour.

Total annual hours: 4,220.

Article XVI. General

ICR: FCU recordkeeping specified in sections 5 and 6. This includes, for example, the time that it takes each FCU time to prepare and maintain the minutes of its board meetings, annual meeting, and committees meetings. NCUA's estimate also includes retention of the FCU's certificate of incorporation, bylaws, and any records of bylaw amendments, which occur infrequently.

Respondents/record-keepers: All FCUs (4,220).

Estimated annual burden: 12 hours (1 hour per month).

Total annual hours: 50,640.

By the National Credit Union Administration Board on July 23, 2013.
Mary Rupp,
Secretary of the Board.

[FR Doc. 2013-18085 Filed 7-26-13; 8:45 am]

BILLING CODE 7535-01-P